DEPARTMENT OF ENERGY

10 CFR Part 430

[Docket No. EERE-2011-BT-STD-0048]

RIN 1904-AC07

Energy Conservation Program: Energy Conservation Standards for Standby Mode and Off Mode for Microwave Ovens; Correction

AGENCY: Office of Energy Efficiency and Renewable Energy, Department of Energy.

ACTION: Final rule; correction.

SUMMARY: On January 18, 2013, the U.S. Department of Energy (DOE) published a final rule amending the test procedures for microwave ovens to include provisions for measuring standby mode and off mode power. On June 17, 2013, DOE published a final rule adopting energy conservation standards for microwave oven standby mode. This document addresses a drafting error in the June 2013 standards final rule, which referenced the incorrect provision for determining standby power for microwave ovens. Neither the error nor the correction in this document affect the substance of both the test procedure and energy conservation standards rulemakings or any of the conclusions reached in support of those final rules.

DATES: This correction is effective on February 17, 2016.

FOR FURTHER INFORMATION CONTACT: Mr. John Cymbalsky, U.S. Department of Energy, Office of Energy Efficiency and Renewable Energy, Building Technologies Office, EE-2J, 1000 Independence Avenue SW., Washington, DC 20585-0121. Telephone: (202) 287-1692. Email: kitchen_ranges_and_ovens@ee.doe.gov.

Ms. Celia Sher, U.S. Department of Energy, Office of the General Counsel, GC-33, 1000 Independence Avenue SW., Washington, DC 20585-0121. Telephone: (202) 287-6122. Email: Celia.Sher@hq.doe.gov.

SUPPLEMENTARY INFORMATION: DOE published a final rule in the Federal Register on January 18, 2013, which amended the test procedures for microwave ovens in Appendix I to include provisions for measuring standby mode and off mode power. 78 FR 4015. The provisions for the microwave oven test standby mode and off mode power measurements are contained in section 3.2.4 of Appendix I. On June 17, 2013, DOE published a final rule (the “June 2013 standards final rule”) to adopt energy conservation standards for microwave oven standby mode. 78 FR 36316. Due to a drafting error, in the June 2013 standards final rule, DOE amended 10 CFR 430.23 to add paragraph (i)(3) that incorrectly referenced section 3.2.3 ¹ of Appendix I instead of the correct section 3.2.4 for determining standby power for microwave ovens. This document amends 10 CFR 430.23(i)(3) to correctly reference section 3.2.4 of Appendix I for determining standby power for microwave ovens.

¹ Section 3.2.3 of Appendix I contains the test measurement provisions for conventional range standby mode and off mode energy consumption.

Procedural Issues and Regulatory Review

The regulatory reviews conducted for this rulemaking are those set forth in the June 2013 standards final rule that originally codified the relevant amendments to DOE's test procedures for microwave ovens. The relevant amendments in the June 2013 standards final rule became effective August 16, 2013.

Pursuant to the Administrative Procedure Act, 5 U.S.C. 553(b), DOE has determined that notice and prior opportunity for comment on this rule are unnecessary and contrary to the public interest. This rule contains a technical correction to remedy the error in the June 2013 standards final rule and to correct 10 CFR 430.23(i)(3) to reference section 3.2.4 of Appendix I for determining standby power for microwave ovens. The correction provides clarity as to the appropriate section of Appendix I to be used for determining standby power for microwave ovens and does not affect the substance or the conclusions reached in the June 2013 standards final rule.

List of Subjects in 10 CFR Part 430

Administrative practice and procedure, Confidential business information, Energy conservation, Household appliances, Imports, Intergovernmental relations, Small businesses.

Issued in Washington, DC, on February 9, 2016.
Kathleen B. Hogan,
Deputy Assistant Secretary, Energy Efficiency and Renewable Energy.

For the reasons stated in the preamble, part 430 of title 10 of the Code of Federal Regulations is corrected by making the following correcting amendments:

PART 430—ENERGY CONSERVATION PROGRAM FOR CONSUMER PRODUCTS

1. The authority citation for part 430 continues to read as follows:

Authority: 42 U.S.C. 6291-6309; 28 U.S.C. 2461 note.

2. Section 430.23 is amended by revising paragraph (i)(3) to read as follows:

§ 430.23 Test procedures for the measurement of energy and water consumption.

* * * * *

(i) * * *

(3) The standby power for microwave ovens shall be determined according to section 3.2.4 of appendix I to this subpart. The standby power shall be rounded off to the nearest 0.1 watt.

* * * * *

[FR Doc. 2016-03191 Filed 2-16-16; 8:45 am]

BILLING CODE 6450-01-P